OFFICE OF THE UNITED STATES TRADE REPRESENTATIVE

[Docket Number USTR-2022-0012]

Request for Written Comments Concerning China's Compliance With WTO Commitments

AGENCY: Office of the United States Trade Representative.

ACTION: Request for written comments.

SUMMARY: The interagency Trade Policy Staff Committee (TPSC) invites interested persons to submit written comments to assist the Office of the United States Trade Representative (USTR) in the preparation of its annual report to the Congress on China's compliance with the commitments made in connection with its accession to the World Trade Organization (WTO). Due to the COVID-19 situation, the TPSC will foster public participation via written questions and written responses relating to the written comments received by the TPSC rather than an in-person hearing. This notice includes the schedule for submission of comments, questions and responses.

DATES:

September 28, 2022 at 11:59 p.m. EDT: Deadline for submission of written comments.

October 12, 2022 at 11:59 p.m. EDT: Deadline for the TPSC to pose written questions on written comments.

October 26, 2022 at 11:59 p.m. EDT: Deadline for submission of commenters' responses to written questions from the TPSC.

ADDRESSES: USTR strongly prefers electronic submissions made through the Federal eRulemaking Portal: http://www.regulations.gov. (Regulations.gov) The instructions for submitting written submissions are in sections III and IV below. The docket number is USTR-2022-0012. For alternatives to online submissions, contact Spencer Smith at Spencer.L.Smith2@ustr.eop.gov or (202) 395-2974 before transmitting a submission and in advance of the relevant deadline.

FOR FURTHER INFORMATION CONTACT: Spencer Smith at Spencer.L.Smith2@ustr.eop.gov or (202) 395-2974 for procedural questions concerning written submissions. Direct all other questions to Alex Martin at (202) 395-3900 or Arthur Tsao at (202) 395-3150.

SUPPLEMENTARY INFORMATION:

I. Background

China became a Member of the WTO on December 11, 2001. In accordance with section 421 of the U.S.-China Relations Act of 2000 (Pub. L. 106-286) (22 U.S.C. 6951), USTR is required to submit, on or about December 11 of each year, a report to Congress on China's compliance with commitments made in connection with its accession to the WTO, including both multilateral commitments and any bilateral commitments made to the United States. In accordance with section 421, and to assist it in preparing this year's report, the TPSC is soliciting public comments. You can find last year's report on USTR's website at https://ustr.gov/sites/default/files/files/Press/Reports/2021USTR%20ReportCongressChinaWTO.pdf.

The terms of China's accession to the WTO are contained in the Protocol on the Accession of the People's Republic of China (including its annexes) (Protocol), the Report of the Working Party on the Accession of China (Working Party Report), and the WTO agreements. You can find the Protocol and Working Party Report on the WTO website at http://docsonline.wto.org (document symbols: WT/L/432, WT/MIN(01)/3, WT/MIN(01)/3/Add.1, WT/MIN(01)/3/Add.2).

II. Topics on Which the TPSC Seeks Information

The TPSC invites written comments on China's compliance with commitments made in connection with its accession to the WTO, including, but not limited to, commitments in the following areas:

a. Trading rights.

b. Import regulation (e.g., tariffs, tariff-rate quotas, quotas, import licenses).

c. Export regulation.

d. Internal policies affecting trade (e.g., subsidies, standards and technical regulations, sanitary and phytosanitary measures, government procurement, trade-related investment measures, taxes and charges levied on imports and exports).

e. Intellectual property rights (including intellectual property rights enforcement).

f. Services.

g. Rule of law issues (e.g., transparency, judicial review, uniform administration of laws and regulations) and status of legal reform.

h. Other WTO commitments.

USTR requests small businesses (generally defined by the Small Business Administration as firms with fewer than 500 employees) or organizations representing small business members that submit comments to self-identify as such, so that we may be aware of issues of particular interest to small businesses. In addition, given the United States' view that China should be held accountable as a full participant in, and beneficiary of, the international trading system, USTR requests that interested persons specifically identify unresolved compliance issues that warrant review and evaluation by USTR.

III. Public Participation

Due to the COVID-19 situation, the TPSC will foster public participation via written submissions rather than an in-person hearing on China's compliance with the commitments made in connection with its accession to the WTO. In accordance with the schedule set out in the Dates section above, USTR invites written comments from the public. The TPSC will review the written comments and may pose written clarifying questions to the commenters. The TPSC will post the written questions on the public docket, other than questions that include properly designated business confidential information (BCI). USTR will send questions that include properly designated BCI to the relevant commenters by email and will not post these questions on the public docket. Written responses to questions that contain BCI must follow the procedures in section IV below.

IV. Requirements for Submissions

Persons submitting written comments must do so in English and must identify on the first page of the submission `Comments Regarding China's WTO Compliance.' The submission deadline is September 28, 2022 at 11:59 p.m. EDT. USTR strongly encourages commenters to make online submissions, using Regulations.gov. To submit comments via Regulations.gov, enter docket number USTR-2022-0012 on the home page and click `search.' The site will provide a search-results page listing all documents associated with this docket. Find a reference to this notice and click on the link entitled `comment'. For further information on using Regulations.gov, please consult the resources provided on the website by clicking on `How to Use Regulations.gov on the bottom of the home page.

Regulations.gov allows users to submit comments by filling in a type comment field, or by attaching a document using the `upload file' field. USTR prefers that you provide submissions in an attached document and, in such cases, that you write `see attached' in the `type comment' field, on the online submission form. USTR prefers submissions in Microsoft Word (.doc) or Adobe Acrobat (.pdf). If you use an application other than those two, please indicate the name of the application in the `type comment' field. At the beginning of the submission, include the following text: (1) 2022 China WTO Compliance Report; (2) your organization's name; and (3) whether the document is a comment or an answer to a TPSC question.

An interested party requesting that USTR treat information contained in a submission as BCI must certify that the information is business confidential. For any comments submitted electronically containing BCI, the file name of the business confidential version should begin with the characters `BCI. You must clearly mark any page containing BCI with `BUSINESS CONFIDENTIAL' at the top of that page. Filers of submissions containing BCI also must submit a public version of their comments that USTR will place in the docket for public inspection. The file name of the public version should begin with the character `P.' Follow the `BCI' and `P' with the name of the person or entity submitting the comments.

Please do not attach separate cover letters to electronic submissions; rather, include any information that might appear in a cover letter in the comments themselves. Similarly, to the extent possible, please include any exhibits, annexes, or other attachments in the same file as the submission itself, not as separate files.

As noted, USTR strongly urges that you file submissions through Regulations.gov. You must make any alternative arrangements with Spencer Smith at Spencer.L.Smith2@ustr.eop.gov or (202) 395-2974 in advance of the relevant deadline.

USTR will post comments in the docket for public inspection, except properly designated BCI. You can view comments at Regulations.gov by entering docket number USTR-2022-0012 in the search field on the home page. General information concerning USTR is available at https://www.ustr.gov.

William Shpiece,
Chair of the Trade Policy Staff Committee, Office of the United States Trade Representative.

[FR Doc. 2022-18570 Filed 8-26-22; 8:45 am]

BILLING CODE 3290-F2-P